DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Center for Mental Health Service (CMHS) Transformation Accountability (TRAC) Reporting System—Revision

SAMHSA's CMHS is requesting approval for a revision to the National Outcome Measures (NOMs) for Consumers Receiving Mental Health Services (OMB No. 0930-0285, Expiration Date: 4/30/2010). The name of this data collection effort is revised to the CMHS TRAC Reporting System (hereafter referred to as TRAC) to enable SAMHSA CMHS to consolidate its performance reporting activities within one package. This request includes a revision of the currently approved data collection effort directed at consumers of the Services (NOMs) programs; additional questions will enable CMHS to more fully explain grantee performance in relation to Agency and/or program objectives. This request also includes the addition of two new surveys to be completed by the Project Directors of grants that include infrastructure development and prevention activities. These new instruments will enable SAMHSA CMHS to capture a standardized set of performance indicators using a uniform reporting method.

These proposed data activities are intended to promote the use of consistent measures among CMHS grantees and contractors funded through the Program of Regional and National Significance (PRNS) and Children's Mental Health Initiative (CMHI) budget lines. These common measures recommended by CMHS are a result of extensive examination and recommendations, using consistent criteria, by panels of staff, experts, and grantees. Wherever feasible, the proposed measures are consistent with or build upon previous data development efforts within CMHS. These data collection activities will be organized to reflect and support the domains specified for SAMHSA's NOMs for the Services programs, and the categories developed by CMHS to specify the Infrastructure Development and Prevention program activities. The use of consistent measurement for specified outcomes across CMHS-funded projects will improve the ability of SAMHSA and CMHS to respond to the Government Performance and Results Act (GPRA) and the Office of Management and Budget Program Assessment Rating Tool (PART) evaluations.

TRAC Reporting—Consumer NOMs Data Collection

The currently approved data collection effort for the SAMHSA CMHS programs that provide direct treatment to consumers includes separate data collection forms that are parallel in design for use in interviewing adults and children (or their caregivers for children under the age of 11 years old). These SAMHSA TRAC data will be collected at baseline, at six month reassessments for as long as the consumer remains in treatment, and at discharge. The proposed data collection encompasses eight of the ten SAMHSA NOMs domains.

Domain | Number of questions: adult | Number of questions: caregiver and child/adolescent
Access/Capacity | 4 | 4
Functioning | 28 | 26
Stability in Housing | 1 | 2
Education and Employment | 4 | 3
Crime and Criminal Justice | 1 | 1
Perception of Care | 15 | 14
Social Connectedness | 4 | 4
Retention ¹ | 5 | 5
Total Number | 63 | 59
¹ Retention is defined as retention in the community. The indicator is based on use of psychiatric inpatient services, which is based on a measure from the Stability in Housing Domain.

Changes to the current tools include the following:

• The administrative section of all tools was changed to allow grantees to capture and track when consumers refuse interviews, consent cannot be obtained from proxy, and consumers are impaired or unable to provide consent. The administrative section of the children's tools was additionally changed to capture whether the respondent is the child or his/her caregiver.

• Questions were added to all tools to capture general health, psychological functioning, life in the community, and substance use.

• CMHS reduced the data collection requirement for 3-month programs to be consistent with 6-month programs; all grant programs will be required to collect the NOMs interviews in 6 month intervals. CMHS will require the collection of Clinical Discharge interviews.

In addition to questions asked of consumers as listed above, programs will be required to abstract information from consumer records regarding the services provided. The time to complete the revised instruments is estimated as shown below. These estimates are based on grantee reports of the amount of time required to complete the currently approved instruments accounting for the additional time required to complete the new questions, as based on an informal pilot.

TRAC Reporting—Infrastructure Development Data Collection

CMHS has identified categories and associated grant- or community-level indicators to assess performance of the Infrastructure Development grant programs to be reported by the grant Project Directors. The performance indicators are the focus of this proposed data collection. A web-based data entry system will be developed to capture this performance data for all CMHS-funded Infrastructure Development grants upon approval of the indicators. Not all categories or indicators will apply to every grant program; CMHS Program Directors will be responsible for determining whether a category (or an indicator within a category) applies to each grant program, establishing targets at the grant level, and monitoring data submission. The following table summarizes the total number of indicators for each category that may or may not apply to each grant program:

Category | Number of indicators
Policy Development | 2
Workforce Development | 5
Financing | 3
Organizational Change | 1
Partnerships/Collaborations | 2
Accountability | 6
Types/Targets of Practices | 4
Total Number | 23

Grantee Project Directors will be responsible for submitting data quarterly. The use of standardized domains and data collection approaches will enhance aggregate data development and reporting.

TRAC Reporting—Prevention and Mental Health Promotion Data Collection

CMHS has identified categories and associated grant- or community-level indicators to assess performance of the Prevention grant programs. The performance indicators are the focus of this proposed data collection. A web-based data entry system will be developed to capture this performance data for all CMHS-funded Prevention and Mental Health Promotion grants upon approval of the indicators. Not all categories or indicators will apply to every grant program; CMHS Program Directors will be responsible for determining whether a category (or an indicator within a category) applies to each grant program, establishing targets at the grant level, and monitoring data submission. The following table summarizes the total number of indicators for each category that may or may not apply to each grant program:

Category | Number of indicators
Awareness | 1
Training | 1
Knowledge/Attitudes/Beliefs | 1
Screening | 1
Outreach | 2
Referral | 1
Access | 1
Total Number | 8

Grantee Project Directors will be responsible for submitting data quarterly. The use of standardized domains and data collection approaches will enhance aggregate data development and reporting.

Following is the estimated annual response burden for this effort.

Type of response | Number of respondents | Data collection per respondent | Total responses | Hours per data collection | Hour burden
NOMs |  |  |  |  |
Consumer Baseline Assessment | 15,681 | 1 | 15,681 | 0.333 | 5,222
Consumer 6-Month Reassessment | 10,646 | 1 | 10,646 | 0.367 | 3,907
Consumer Discharge Interviews | 4,508 | 1 | 4,508 | 0.367 | 1,655
Chart Abstraction |  |  |  |  |
Baseline | 2,352 | 1 | 2,352 | 0.1 | 235
Reassessment | 9,017 | 1 | 9,017 | 0.1 | 902
NOMs Subtotal | 15,681 |  | 15,681 |  | 11,920
Infrastructure |  |  |  |  |
Quarterly Record Abstraction | 652 | 4 | 2,608 | 4 | 10,432
Prevention and Mental Health Promotion |  |  |  |  |
Quarterly Record Abstraction | 290 | 4 | 1,160 | 4 | 4,640
Total | 16,623 |  |  |  | 26,992

Send comments to Summer King, SAMHSA Reports Clearance Officer, Room 7-1044, 1 Choke Cherry Road, Rockville, MD 20850 and e-mail her a copy at summer.king@samhsa.hhs.gov. Written comments should be received by December 7, 2009.

Dated: September 28, 2009.
Elaine Parry,
Director, Office of Program Services.

[FR Doc. E9-24021 Filed 10-5-09; 8:45 am]

BILLING CODE 4162-20-P